DEPARTMENT OF HEALTH AND HUMAN SERVICES

Indian Health Service

Reimbursement Rates for Calendar Year 2016

AGENCY: Indian Health Service, HHS.

ACTION: Notice.

SUMMARY: Notice is given that the Principal Deputy Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2016 for Medicare and Medicaid beneficiaries, beneficiaries of other Federal programs, and for recoveries under the Federal Medical Care Recovery Act (42 U.S.C. 2651-2653). The Medicare Part A inpatient rates are excluded from the table below as they are paid based on the prospective payment system. Since the inpatient per diem rates set forth below do not include all physician services and practitioner services, additional payment shall be available to the extent that those services are provided.

Inpatient Hospital Per Diem Rate (Excludes Physician/Practitioner Services)
[Calendar year 2016]
Lower 48 States | $2,655
Alaska | 3,335
Outpatient per Visit Rate (Excluding Medicare):
Lower 48 States | 368
Alaska | 603
Outpatient Per Visit Rate (Medicare):
Lower 48 States | 324
Alaska | 582
Medicare Part B Inpatient Ancillary Per Diem Rate:
Lower 48 States | 637
Alaska | 1,082
Outpatient Surgery Rate (Medicare):
Established Medicare rates for freestanding Ambulatory Surgery Centers.

Effective Date for Calendar Year 2016 Rates

Consistent with previous annual rate revisions, the Calendar Year 2016 rates will be effective for services provided on/or after January 1, 2016 to the extent consistent with payment authorities including the applicable Medicaid State plan.

Dated: March 3, 2016.
Mary Smith,
Principal Deputy Director, Indian Health Service.

[FR Doc. 2016-05252 Filed 3-8-16; 8:45 am]

BILLING CODE 4160-16-P